DEPARTMENT OF THE INTERIOR

Bureau of Reclamation

Savage Rapids Pumping Facilities/Dam Removal Project, Josephine County, Rogue River Basin, OR

AGENCY: Bureau of Reclamation, Interior.

ACTION: Notice of intent to prepare an environmental assessment (EA) to determine need for a supplemental environmental impact statement (EIS).

SUMMARY: Section 220 of the fiscal year 2004 Energy and Water Appropriations Bill (Pub. L.108-137) authorized the Secretary of the Interior to construct pumping facilities and remove Savage Rapids Dam. These actions were evaluated in a 1995 EIS prepared by the Bureau of Reclamation. Modifications to the preferred alternative identified in the 1995 EIS are now being considered. Reclamation, pursuant to section 102(2)(C) of the National Environmental Policy Act (NEPA) of 1969, as amended, will prepare an EA to determine if the proposed modifications would result in significant impacts not addressed in the 1995 EIS. If the EA indicates that such impacts are likely, Reclamation intends to prepare a supplemental EIS.

DATES: Written comments identifying issues and concerns regarding the proposed project's environmental effects will be accepted until June 21, 2004.

ADDRESSES: Comments and requests to be added to the mailing list may be submitted to the Bureau of Reclamation, Pacific Northwest Regional Office, Attention: Robert Hamilton (PN-6309), 1150 North Curtis Road, Suite 100, Boise, ID 83706-1234.

FOR FURTHER INFORMATION CONTACT: Robert Hamilton, Bureau of Reclamation, telephone: 208-378-5087, fax: 208-378-5102, or by e-mail at Savage_Rapids@pn.usbr.gov. The hearing impaired may contact Mr. Hamilton at the above number via a toll free TTY relay: 1-800-833-6388.

SUPPLEMENTARY INFORMATION:

Background

Savage Rapids Dam is located on the Rogue River in southwestern Oregon, about 5 miles east of the city of Grants Pass. The privately owned dam is the primary irrigation diversion facility of the Grants Pass Irrigation District (GPID).

Fish passage at Savage Rapids Dam has been an issue since the dam was constructed in 1921 by the GPID. The concrete structure has a height of 39 feet. A fish ladder was constructed on the north side at the time the dam was built and a ladder on the south side was completed in 1934. Rotating fish screens were an initial part of the gravity diversion. Early attempts to screen the pumping diversion were unsuccessful, and it remained essentially unscreened until 1958. Fish passage improvements made in the late 1970's helped reduce losses, but fish passage problems continue. The existing fish screens at the pump intake do not meet current criteria of the National Oceanic and Atmospheric Administration (NOAA) Fisheries.

An EIS for Fish Improvements at Savage Rapids Dam was issued in August 1995. A Record of Decision was issued in March 1997 indicating that Reclamation would not pursue implementation of the preferred alternative (installation of pumping plants with dam removal) identified in the EIS because of lack of public support.

In 1997 the National Marine Fisheries Service (now NOAA Fisheries) listed the Southern Oregon-Northern California coho salmon as threatened. In August 2001, a Consent Decree was issued to settle a pending Federal court case against GPID under the Endangered Species Act and a water right cancellation case pending in the Supreme Court of the State of Oregon. The Consent Decree provided that the GPID should seek authorization and funding for implementing the Pumping/Dam Removal Plan as identified in the 1995 EIS, and that the GPID must cease operating the Dam as its diversion facility by November 1, 2005, with an extension to November 1, 2006, if necessary. Section 220 of the fiscal year 2004 Energy and Water Appropriations Bill (Pub. L. 108-137) authorized the Secretary of the Interior to construct pumping facilities and remove Savage Rapids Dam.

The general need for the project remains the same as identified in the 1995 EIS: to improve fish passage while maintaining a water diversion for the GPID. The original preferred alternative included two pumping stations (one located on each side of the river) and full dam removal. Modifications now being considered include substituting a single large pumping station for the two originally-planned stations; constructing an overhead pipeline crossing the river; and using some of the existing dam piers to support a pipe bridge or constructing new piers. Alternatives related to pump station location may also be evaluated. Cost-saving measures, including leaving portions of the dam abutments in place, are also under consideration.

Reclamation will prepare an EA to update the analysis in the 1995 EIS and determine if significant impacts not identified in the 1995 EIS would result from possible modifications to the original preferred alternative. If the EA indicates that such impacts are likely, Reclamation intends to prepare a supplemental EIS.

Identity Disclosure

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: April 17, 2004.
J. William McDonald,
Regional Director, Pacific Northwest Region.

[FR Doc. 04-11403 Filed 5-19-04; 8:45 am]

BILLING CODE 4310-MN-P